DEPARTMENT OF DEFENSE

Office of the Secretary

[Transmittal No. 23-0F]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(5)(C) arms sales notification is published to fulfill the requirements of section 155 of Public Law 104-164 dated July 21, 1996. The following is a copy of a letter to the Speaker of the House of Representatives with attached Transmittal 23-0F.

Dated: September 18, 2024.
Aaron T. Siegel,
Alternate OSD Federal Register Liaison Officer, Department of Defense.

BILLING CODE 6001-FR-P

BILLING CODE 6001-FR-C

Transmittal No. 23-0F

REPORT OF ENHANCEMENT OR UPGRADE OF SENSITIVITY OF TECHNOLOGY OR CAPABILITY (SEC. 36(B)(5)(C), AECA)

(i) Purchaser: Republic of Korea

(ii) Sec. 36(b)(1), AECA Transmittal No.: 12-32

Date: September 21, 2012

Military Department: Army

(iii) Description: On September 21, 2012, Congress was notified by Congressional certification transmittal number 12-32, of the possible sale under Section 36(b)(1) of the Arms Export Control Act of 36 AH-64 D APACHE Longbow Block III Attack Helicopters; 84 T-700-GE-701 D Engines; 42 Modernized Target Acquisition and Designation Sight/Modernized Pilot Night Vision Sensors; 36 AN/APG-78 Fire Control Radar (FCR) with Radar Electronics Unit (Longbow Component); 36 AN/APR-48A Radar Frequency Interferometers; 42 AN/APR-39 Radar Signal Detecting Sets; 45 AN/AVR-2B Laser Warning Sets; 43 AAR-57(V) 3/5 Common Missile Warning Systems (CMWS) with 5th Sensor and Improved Countermeasure Dispensers; 42 AN/APX-123 Transponders; 120 Improved Helmet Display Sight Systems (IHDSS-21); 81 Embedded Global Positioning Systems with Inertial Navigation; 38 30mm Automatic Chain Guns (Aircraft Component); 90 AN/ARC-201E Single Channel Ground and Airborne Radio System (SINCGARS) Radios; 90 AN/ARC-231 Radios; 42 AN/ARC-220 Radios; 80 M299 HELLFIRE or Missile Launchers; 400 AGM-114Rl HELLFIRE Missiles Semi-Active Lasers (SAL); 438 STINGER Block I 92H Missiles; 774,144 30 mm Cartridge HEDP High Explosive Dual Purpose M789s 11,020 2.75 Inch HYDRA Rockets (Unguided); 108 APACHE Aviator Integrated Helmets (AAIH). Also included were training devices, simulators, generators, transportation, wheeled vehicles and organizational equipment, tools and test equipment, communication equipment, spare and repair parts, support equipment, personnel training and training equipment, publications and technical documentation, U.S. Government and contractor engineering, technical and logistics support services, and other related elements of program support. The estimated total cost was $3.6 billion. Major Defense Equipment (MDE) constituted $2.5 billion of this total.

This transmittal notifies the inclusion of the following additional MDE item: forty-one (41) AAR-57(V) 3/5 Common Missile Warning Systems (CMWS). The estimated total value of the new MDE items is $27 million, resulting in a new MDE total of $2.527 billion. The total case value will increase to $3.627 billion.

(iv) Significance: The proposed sale will sustain the Republic of Korea's Army (ROKA) AH-64 fleet readiness, increase combat survivability and allow the ROKA to fulfill security requirements related to the defense of Korea, as outlined in bilateral operational plans.

(v) Justification: This proposed sale will support the foreign policy goals and national security objectives of the United States by improving the security of a Major Non-NATO Ally that is a force for political stability and economic progress in the Indo-Pacific region.

(vi) Sensitivity of Technology: The Sensitivity of Technology statement contained in the original notification applies to items reported here.

The highest level of classification of defense articles, components, and services included in this potential sale is SECRET.

(vii) Date Report Delivered to Congress: April 28, 2023

[FR Doc. 2024-21699 Filed 9-20-24; 8:45 am]

BILLING CODE 6001-FR-P